FEDERAL COMMUNICATIONS COMMISSION

[OMB 3060-1290; FR ID 41660]

Information Collection Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before October 15, 2021. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-1290.

Title: Application for Voluntary Assignment of Transfers and Controls, 47 CFR 73.3540.

Form No.: FCC Forms 314-IBFS, 315-IBFS, and 316-IBFS.

Type of Review: Extension of a currently approved collection.

Respondents: Business or other for-profit entities; Individuals and Households.

Number of Respondents/Responses: 2 respondents; 2 responses.

Estimated Time per Response: 10 hours.

Frequency of Response: Recordkeeping requirement; On occasion reporting requirement.

Obligation To Respond: The statutory authority for this information collection is contained in Sections 1, 4(i), 301, 303, 307, and 308(b) 334, 336, 554 of the Communications Act of 1934, as amended, 47 U.S.C. 151, 154(i), 301, 303, 307, 308(b), 334, 336, 554, and Part 73 of the Commission's rules.

Total Annual Burden: 20 hours.

Annual Cost Burden: $790.

Privacy Act Impact Assessment: The Commission is preparing a system of records notice, FCC/IB-1 “International Bureau Filing System,” to cover any PII that will be added to IBFS as part of this collection. The Commission is also preparing a Privacy Impact Assessment for the system.

Nature and Extent of Confidentiality: In general, there is no need for confidentiality with this collection of information.

Needs and Uses: The Federal Communications Commission (“Commission”) is requesting that the Office of Management and Budget (OMB) approve a three year extension of the information collection titled “Application for Voluntary Assignment of Transfers and Controls, 47 CFR 73.3540” under OMB Control Number 3060-1290.

On July 13, 2021, the Commission released an Order titled, “In the Matter of Mandatory Electronic Filing of Section 325(c) Applications, International Broadcast Applications, and Dominant Carrier Section 63.10(c) Quarterly Reports.” The purpose of this Order is to require that any remaining applications and reports administered by the International Bureau and filed on paper or through an alternative filing process be filed only electronically through the Commission's International Bureau Filing System (IBFS).

In July 2021, OMB approved this information collection under OMB Control No 3060-1290 to implement mandatory electronic filing of International Broadcast station applications in the International Bureau Filing System (IBFS). The versions of FCC Forms 314, 315, and 316 to be used by International Bureau licensees were renamed as FCC Form 314-IBFS, FCC Form 315-IBFS and FCC Form 316-IBFS. These forms will only be used by the International Broadcast stations in IBFS.

Under 47 CFR 73.3540, the filings of the FCC Forms 314-IBFS, 315-IBFS, and 316-IBFS are required when applying for consent for assignment of a broadcast station construction permit or license. In addition, the applicant must notify the Commission when an approved assignment or transfer of control of a broadcast station construction permit or license has been consummated.

The FCC Forms 314, 315, and 316 were previously shared between the Media Bureau and the International Bureau. The forms were used by the International Bureau for International Broadcast stations and by the Media Bureau for other broadcast licenses. These FCC Forms were previously approved by Office of Management and Budget (OMB) for use by Media Bureau licensees under OMB 3060-0031 and OMB 3060-0009. Due to an administrative error, however, the information collections in 47 CFR 73.3540 did not have a current OMB approval with a control number that explicitly includes International Broadcast stations in the collection.

The obligations in 47 CFR 73.3540 (Application for voluntary assignment or transfer of control) were initially promulgated as a Part 1 rule, 47 CFR 1.540, prior to PRA, and in 1979, the Commission redesignated that provision as 47 CFR 73.3540 in an effort to restructure and consolidate all broadcast rules into Part 73 rules (44 FR 38496)).

On April 1, 1981, the collections in 47 CFR 73.3540 for transfers of control and assignments of broadcast stations (OMB 3060-0009, OMB 3060-0031) were approved. These approved collections cover the use of FCC Forms 314, 315, and 316. Due to an administrative error, however, currently, these OMB approved information collections do not explicitly include International Broadcast stations' applications and their use of these FCC forms.

Specifically, the Commission modified its rules to mandate the electronic filing of, among other things, applications for International Broadcast Stations, including applications for voluntary assignments and transfers of control. These mandatory electronic filing requirements will reduce costs and administrative burdens, result in greater efficiencies, facilitate faster and more efficient communications, and improve transparency to the public. The changes to section 73.3540 (c) and (d) state that “[f]or International Broadcast Stations, the application shall be filed electronically in the International Bureau Filing System (IBFS).” There are currently fewer than 20 International Broadcast stations subject to obligations in section 73.3540, and the International Bureau receives an average of one application involving voluntary transactions per year pursuant to section 73.3540.

§ 73.3540 Application for Voluntary Assignment or Transfer of Control

(a) Prior consent of the FCC must be obtained for a voluntary assignment or transfer of control.

(b) Application should be filed with the FCC at least 45 days prior to the contemplated effective date of assignment or transfer of control.

(c) Application for consent to the assignment of construction permit or license must be filed on FCC Form 314 “Assignment of license” or FCC Form 316 “Short form” (See paragraph (f) of this section). For International Broadcast Stations, the application shall be filed electronically in the International Bureau Filing System (IBFS).

(d) Application for consent to the transfer of control of a corporation holding a construction permit or license must be filed on FCC Form 315 “Transfer of Control” or FCC Form 316 “Short form” (see paragraph (f) of this section). For International Broadcast Stations, the application shall be filed electronically in the IBFS.

(e) Application for consent to the assignment of construction permit or license or to the transfer of control of a corporate licensee or permittee for an FM or TV translator station, a low power TV station and any associated auxiliary station, such as translator microwave relay stations and UHF translator booster stations, only must be filed on FCC Form 345 “Application for Transfer of Control of Corporate Licensee or Permittee, or Assignment of License or Permit for an FM or TV translator Station, or a Low Power TV Station.”

(f) The following assignment or transfer applications may be filed on FCC “Short form” 316:

(1) Assignment from an individual or individuals (including partnerships) to a corporation owned and controlled by such individuals or partnerships without any substantial change in their relative interests;

(2) Assignment from a corporation to its individual stockholders without effecting any substantial change in the disposition of their interests;

(3) Assignment or transfer by which certain stockholders retire and the interest transferred is not a controlling one;

(4) Corporate reorganization which involves no substantial change in the beneficial ownership of the corporation;

(5) Assignment or transfer from a corporation to a wholly owned subsidiary thereof or vice versa, or where there is an assignment from a corporation to a corporation owned or controlled by the assignor stockholders without substantial change in their interests; or

(6) Assignment of less than a controlling interest in a partnership.

Federal Communications Commission.
Katura Jackson,
Federal Register Liaison Officer.

[FR Doc. 2021-17414 Filed 8-13-21; 8:45 am]

BILLING CODE 6712-01-P